DEPARTMENT OF ENERGY

Federal Energy Regulatory Commission

Combined Notice of Filings #1

Take notice that the Commission received the following electric corporate filings:

Docket Numbers: EC26-38-000.

Applicants: Waterside Power, LLC.

Description: Application for Authorization Under Section 203 of the Federal Power Act of Waterside Power, LLC.

Filed Date: 12/10/25.

Accession Number: 20251210-5285

Comment Date: 5 p.m. ET 12/31/25.

Docket Numbers: C26-39-000.

Applicants: KMC Thermo, LLC, Alpha Generation Brandywine, LLC.

Description: Joint Application for Authorization Under Section 203 of the Federal Power Act of KMC Thermo, LLC, et al.

Filed Date: 12/10/25.

Accession Number: 20251210-5295.

Comment Date: 5 p.m. ET 1/26/26.

Take notice that the Commission received the following exempt wholesale generator filings:

Docket Numbers: EG26-99-000.

Applicants: Murch Solar, LLC.

Description: Murch Solar, LLC submits Notice of Self-Certification of Exempt Wholesale Generator Status.

Filed Date: 12/11/25.

Accession Number: 20251211-5173.

Comment Date: 5 p.m. ET 1/1/26.

Take notice that the Commission received the following electric rate filings:

Docket Numbers: ER25-3480-002.

Applicants: MATL LLP.

Description: Compliance filing: Compliance Filing ER25-3480 to be effective 12/19/2025.

Filed Date: 12/11/25.

Accession Number: 20251211-5055.

Comment Date: 5 p.m. ET 1/1/26.

Docket Numbers: ER26-136-001.

Applicants: PJM Interconnection, L.L.C.

Description: Tariff Amendment: Amendment of Amended GIA, SA No. 7357; AG1-366 to be effective 12/14/2025.

Filed Date: 12/11/25.

Accession Number: 20251211-5189.

Comment Date: 5 p.m. ET 1/1/26.

Docket Numbers: ER26-560-001.

Applicants: Midcontinent Independent System Operator, Inc., WPPI Energy.

Description: Tariff Amendment: WPPI Energy submits tariff filing per 35.17(b): 2025-12-11_Amendment for WPPI Energy Request for Transmission Rate Incentives to be effective 1/20/2026.

Filed Date: 12/11/25.

Accession Number: 20251211-5167.

Comment Date: 5 p.m. ET 1/1/26.

Docket Numbers: ER26-649-000; ER26-648-000.

Applicants: Atlas Solar VI, LLC, Atlas Solar V, LLC.

Description:Supplement to 12/03/2025, Atlas Solar V, LLC, et al. tariff filing.

Filed Date: 12/10/25.

Accession Number: 20251210-5229.

Comment Date: 5 p.m. ET 12/31/25.

Docket Numbers: ER26-718-000.

Applicants: NorthWestern Corporation.

Description: § 205(d) Rate Filing: Revised Exhibits to Montana Intertie Agreement to be effective 12/10/2025.

Filed Date: 12/10/25.

Accession Number: 20251210-5266.

Comment Date: 5 p.m. ET 12/31/25.

Docket Numbers: ER26-721-000.

Applicants: Midcontinent Independent System Operator, Inc., Entergy Texas, Inc.

Description: § 205(d) Rate Filing: Entergy Texas, Inc. submits tariff filing per 35.13(a)(2)(iii: 2025-12-11_SA 4614 Entergy Texas-SHECO TIA to be effective 1/1/2026.

Filed Date: 12/11/25.

Accession Number: 20251211-5075.

Comment Date: 5 p.m. ET 1/1/26.

Docket Numbers: ER26-722-000.

Applicants: PJM Interconnection, L.L.C.

Description: Tariff Amendment: Notice of Cancellation of WMPA, SA No. 6310; Queue No. AG1-086 to be effective 10/20/2025.

Filed Date: 12/11/25.

Accession Number: 20251211-5079.

Comment Date: 5 p.m. ET 1/1/26.

Docket Numbers: ER26-723-000.

Applicants: Southern California Edison Company.

Description: § 205(d) Rate Filing: 2025 Revised Added Facilities Rate for Rate Schedules to be effective 1/1/2026.

Filed Date: 12/11/25.

Accession Number: 20251211-5093

Comment Date: 5 p.m. ET 1/1/26.

Docket Numbers: ER26-724-000.

Applicants: MEC Phase 1, LLC.

Description: § 205(d) Rate Filing: MEC Phase 1, LLC MBR Tariff to be effective 1/1/2026.

Filed Date: 12/11/25.

Accession Number: 20251211-5102.

Comment Date: 5 p.m. ET 1/1/26.

Docket Numbers: ER26-725-000.

Applicants: MEC Phase 2, LLC.

Description: § 205(d) Rate Filing: MEC Phase 2, LLC MBR Tariff to be effective 1/1/2026.

Filed Date: 12/11/25.

Accession Number: 20251211-5104.

Comment Date: 5 p.m. ET 1/1/26.

Docket Numbers: ER26-726-000.

Applicants: CHPE LLC.

Description: Champlain Hudson Power Express submits an Interconnection Asset Owners Agreement.

Filed Date: 12/9/25.

Accession Number: 20251209-5197.

Comment Date: 5 p.m. ET 12/30/25.

Docket Numbers: ER26-727-000.

Applicants: Puget Sound Energy, Inc.

Description: § 205(d) Rate Filing: Allocation Agreement (RS-9011) with BPA to be effective 12/12/2025.

Filed Date: 12/11/25.

Accession Number: 20251211-5116.

Comment Date: 5 p.m. ET 1/1/26.

Docket Numbers:ER26-728-000.

Applicants: Arizona Public Service Company.

Description: § 205(d) Rate Filing: Rate Schedule No. 323—Sitgreaves Operating Agreement to be effective 11/26/2025.

Filed Date: 12/11/25.

Accession Number: 20251211-5154.

Comment Date: 5 p.m. ET 1/1/26.

Docket Numbers: ER26-729-000.

Applicants: Vaca Dixon BESS LLC.

Description: Initial Rate Filing: Baseline new to be effective 2/10/2026.

Filed Date: 12/11/25.

Accession Number: 20251211-5174.

Comment Date: 5 p.m. ET 1/1/26.

Docket Numbers: ER26-730-000.

Applicants: Arges BESS LLC.

Description: Initial Rate Filing: Baseline new to be effective 2/10/2026.

Filed Date: 12/11/25.

Accession Number: 20251211-5175.

Comment Date: 5 p.m. ET 1/1/26.

Docket Numbers: ER26-732-000.

Applicants: Tri-State Generation and Transmission Association, Inc.

Description: § 205(d) Rate Filing: Amendment to Rate Schedule FERC No. 10 to be effective 2/10/2026.

Filed Date: 12/11/25.

Accession Number: 20251211-5180.

Comment Date: 5 p.m. ET 1/1/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 11, 2025.
Carlos D. Clay,
Deputy Secretary.

[FR Doc. 2025-22940 Filed 12-15-25; 8:45 am]

BILLING CODE 6717-01-P